SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: October 1-31, 2015.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and (f) for the time period specified above:

Approvals by Rule Issued Under 18 CFR 806.22(e)

1. Lackawanna Energy Center, LLC, Lackawanna Energy Center, ABR-201510005, Borough of Jessup, Lackawanna County, PA.; Consumptive Use of Up to 0.4000 mgd; Approval Date: October 23, 2015.

Approvals by Rule Issued Under 18 CFR 806.22(f)

1. Travis Peak Resources, LLC, Pad ID: Abplanalp, ABR-201510001, Westfield Township, Tioga County, Pa.; Consumptive Use of Up to 1.1760 mgd; Approval Date: October 6, 2015.

2. Travis Peak Resources, LLC, Pad ID: Painter, ABR-201510002, Westfield Township, Tioga County, Pa.; Consumptive Use of Up to 1.1760 mgd; Approval Date: October 6, 2015.

3. Chief Oil & Gas, LLC, Pad ID: Warburton North Drilling Pad, ABR-201510003, Forks Township, Sullivan County, Pa.; Consumptive Use of Up to 2.500 mgd; Approval Date: October 6, 2015.

4. Ultra Resources, Inc., Pad ID: Brown #1 Pad Site, ABR-201510004, West Branch Township, Potter County, Pa.; Consumptive Use of Up to 0.0420 mgd; Approval Date: October 6, 2015.

5. Anadarko E&P Onshore, LLC, Pad ID: Harry W Stryker Pad A, ABR-201011044.R1, Cogan House Township, Lycoming County, Pa.; Consumptive Use of Up to 3.0000 mgd; Approval Date: October 6, 2015.

6. Anadarko E&P Onshore, LLC, Pad ID: Ann C Good Pad B, ABR-201011047.R1, Cogan House Township, Lycoming County, Pa.; Consumptive Use of Up to 3.0000 mgd; Approval Date: October 6, 2015.

7. Anadarko E&P Onshore, LLC, Pad ID: David O Vollman Pad A, ABR-201011069.R1, Cogan House Township, Lycoming County, Pa.; Consumptive Use of Up to 3.0000 mgd; Approval Date: October 6, 2015.

8. EOG Resources, Inc., Pad ID: PHC 6H, ABR-20090721.R1, Lawrence Township, Clearfield County, Pa.; Consumptive Use of Up to 4.9999 mgd; Approval Date: October 6, 2015.

9. EOG Resources, Inc., Pad ID: PHC 8H, ABR-20090723.R1, Lawrence Township, Clearfield County, Pa.; Consumptive Use of Up to 1.9999 mgd; Approval Date: October 6, 2015.

10. SWEPI LP, Pad ID: Hedrick 702, ABR-201007092.R1, Union Township, Tioga County, Pa.; Consumptive Use of Up to 4.0000 mgd; Approval Date: October 6, 2015.

11. SWEPI LP, Pad ID: Foti 721, ABR-201007118.R1, McNett Township, Lycoming County, Pa.; Consumptive Use of Up to 4.0000 mgd; Approval Date: October 6, 2015.

12. SWEPI LP, Pad ID: Clegg 722, ABR-201007119.R1, McNett Township, Lycoming County, Pa.; Consumptive Use of Up to 4.0000 mgd; Approval Date: October 6, 2015.

13. Talisman Energy USA Inc., Pad ID: 05 009 Alderson V, ABR-201008022.R1, Pike Township, Bradford County and Middletown Township, Susquehanna County, Pa.; Consumptive Use of Up to 6.0000 mgd; Approval Date: October 6, 2015.

14. Talisman Energy USA Inc., Pad ID: 05-003 Edsell C, ABR-201008076.R1, Pike Township, Bradford County, Pa.; Consumptive Use of Up to 6.0000 mgd; Approval Date: October 6, 2015.

15. Talisman Energy USA Inc., Pad ID: 05 046 O'Rourke, ABR-201008124.R1, Warren Township, Bradford County, Pa.; Consumptive Use of Up to 6.0000 mgd; Approval Date: October 6, 2015.

16. Talisman Energy USA Inc., Pad ID: 01 086 Brelsford, ABR-201008128.R1, Armenia Township, Bradford County, Pa.; Consumptive Use of Up to 6.0000 mgd; Approval Date: October 6, 2015.

17. Talisman Energy USA Inc., Pad ID: 05 005 Ayers, ABR-201008129.R1, Orwell Township, Bradford County, Pa.; Consumptive Use of Up to 6.0000 mgd; Approval Date: October 6, 2015.

18. Talisman Energy USA Inc., Pad ID: 05 067 Green Newland LLC, ABR-201008151.R1, Warren Township, Bradford County, Pa.; Consumptive Use of Up to 6.0000 mgd; Approval Date: October 6, 2015.

19. Talisman Energy USA Inc., Pad ID: 05 026 Strope, ABR-201008152.R1, Warren Township, Bradford County, Pa.; Consumptive Use of Up to 6.0000 mgd; Approval Date: October 6, 2015.

20. LPR Energy, LLC, Pad ID: Ritchey Unit Drilling Pad, ABR-20091010.R1, Juniata Township, Blair County, Pa.; Consumptive Use of Up to 1.9900 mgd; Approval Date: October 12, 2015.

21. LPR Energy, LLC, Pad ID: Hodge Unit Drilling Pad #1, ABR-20091201.R1, Juniata Township, Blair County, Pa.; Consumptive Use of Up to 5.0000 mgd; Approval Date: October 12, 2015.

22. LPR Energy, LLC, Pad ID: Lightner Drilling Pad #1, ABR-201007045.R1, Juniata Township, Blair County, Pa.; Consumptive Use of Up to 2.0000 mgd; Approval Date: October 12, 2015.

23. LPR Energy, LLC, Pad ID: Davis Drilling Pad #1, ABR-201007067.R1, West St. Clair Township, Bedford County, Pa.; Consumptive Use of Up to 2.0000 mgd; Approval Date: October 12, 2015.

24. LPR Energy, LLC, Pad ID: Lightner East Drilling Pad #1, ABR-201009087.R1, Juniata Township, Blair County, Pa.; Consumptive Use of Up to 2.0000 mgd; Approval Date: October 12, 2015.

25. Anadarko E&P Onshore, LLC, Pad ID: Douglas C Kinley Pad A, ABR-201009046.R1, Lycoming Township, Lycoming County, Pa.; Consumptive Use of Up to 3.0000 mgd; Approval Date: October 13, 2015.

26. Chesapeake Appalachia, LLC, Pad ID: Harnish, ABR-201102006.R1, Sheshequin Township, Bradford County, Pa.; Consumptive Use of Up to 7.5000 mgd; Approval Date: October 13, 2015.

27. SWEPI LP, Pad ID: Sticklin 610, ABR-201007113.R1, Delmar Township, Tioga County, Pa.; Consumptive Use of Up to 4.0000 mgd; Approval Date: October 13, 2015.

28. SWEPI LP, Pad ID: Hamblin 860, ABR-201007117.R1, Middlebury Township, Tioga County, Pa.; Consumptive Use of Up to 4.0000 mgd; Approval Date: October 13, 2015.

29. SWEPI LP, Pad ID: McNett 708, ABR-201008003.R1, Liberty Township, Tioga County, Pa.; Consumptive Use of Up to 4.0000 mgd; Approval Date: October 13, 2015.

30. SWEPI LP, Pad ID: Clark 392, ABR-201008004.R1, Delmar Township, Tioga County, Pa.; Consumptive Use of Up to 4.0000 mgd; Approval Date: October 13, 2015.

31. SWEPI LP, Pad ID: Miller 394, ABR-201008005.R1, Delmar Township, Tioga County, Pa.; Consumptive Use of Up to 4.0000 mgd; Approval Date: October 13, 2015.

32. SWEPI LP, Pad ID: Bauer 849, ABR-201008032.R1, Middlebury Township, Tioga County, Pa.; Consumptive Use of Up to 4.0000 mgd; Approval Date: October 13, 2015.

33. SWEPI LP, Pad ID: Davis 829, ABR-201008033.R1, Farmington Township, Tioga County, Pa.; Consumptive Use of Up to 4.0000 mgd; Approval Date: October 13, 2015.

34. SWEPI LP, Pad ID: Fish 301, ABR-201008034.R1, Richmond Township, Tioga County, Pa.; Consumptive Use of Up to 4.0000 mgd; Approval Date: October 13, 2015.

35. Chesapeake Appalachia, LLC, Pad ID: Cuthbertson, ABR-201102001.R1, Wilmot Township, Bradford County, Pa.; Consumptive Use of Up to 7.5000 mgd; Approval Date: October 19, 2015.

36. Chesapeake Appalachia, LLC, Pad ID: Jokah, ABR-201102005.R1, Windham Township, Wyoming County, Pa.; Consumptive Use of Up to 7.5000 mgd; Approval Date: October 19, 2015.

37. Chesapeake Appalachia, LLC, Pad ID: Corl, ABR-201102011.R1, Colley Township, Sullivan County, Pa.; Consumptive Use of Up to 7.5000 mgd; Approval Date: October 19, 2015.

38. Chesapeake Appalachia, LLC, Pad ID: Herr, ABR-201102026.R1, Sheshequin Township, Bradford County, Pa.; Consumptive Use of Up to 7.5000 mgd; Approval Date: October 19, 2015.

39. EQT Production Company, Pad ID: Stoney Brook, ABR-201105008.R1, Jay Township, Elk County, Pa.; Consumptive Use of Up to 3.0000 mgd; Approval Date: October 19, 2015.

40. EQT Production Company, Pad ID: Phoenix P, ABR-201105024.R1, Duncan Township, Tioga County, Pa.; Consumptive Use of Up to 3.0000 mgd; Approval Date: October 19, 2015.

41. SWEPI LP, Pad ID: Heyler 748, ABR-201008031.R1, Morris and Liberty Townships, Tioga County, Pa.; Consumptive Use of Up to 4.0000 mgd; Approval Date: October 19, 2015.

42. SWEPI LP, Pad ID: Fuleihan 417, ABR-201008073.R1, Delmar Township, Tioga County, Pa.; Consumptive Use of Up to 4.0000 mgd; Approval Date: October 19, 2015.

43. SWEPI LP, Pad ID: Baker 897, ABR-201008074.R1, Deerfield Township, Tioga County, Pa.; Consumptive Use of Up to 4.0000 mgd; Approval Date: October 19, 2015.

44. SWEPI LP, Pad ID: Kinnan 845, ABR-201008135.R1, Middlebury Township, Tioga County, Pa.; Consumptive Use of Up to 4.0000 mgd; Approval Date: October 19, 2015.

45. Anadarko E&P Onshore, LLC, Pad ID: William S Kieser Pad A, ABR-201011046.R1, Cogan House Township, Lycoming County, Pa.; Consumptive Use of Up to 3.0000 mgd; Approval Date: October 20, 2015.

46. EXCO Resources (PA), LLC, Pad ID: Marquardt Drilling Pad #1, ABR-201008008.R1, Davidson Township, Sullivan County, Pa.; Consumptive Use of Up to 8.0000 mgd; Approval Date: October 20, 2015.

47. EXCO Resources (PA), LLC, Pad ID: Wistar-Shaffer Tracts Drilling Pad #1, ABR-201009071.R1, Shrewsbury Township, Sullivan County, Pa.; Consumptive Use of Up to 8.0000 mgd; Approval Date: October 20, 2015.

48. SWEPI LP, Pad ID: Seeley 524, ABR-201007122.R1, Rutland Township, Tioga County, Pa.; Consumptive Use of Up to 4.0000 mgd; Approval Date: October 20, 2015.

49. SWEPI LP, Pad ID: Dewey Hollow Rod & Gun Club 601, ABR-201007128.R1, Sullivan Township, Tioga County, Pa.; Consumptive Use of Up to 4.0000 mgd; Approval Date: October 20, 2015.

50. SWEPI LP, Pad ID: Appold 493, ABR-201008126.R1, Sullivan Township, Tioga County, Pa.; Consumptive Use of Up to 4.0000 mgd; Approval Date: October 20, 2015.

51. SWEPI LP, Pad ID: Wood 496, ABR-201009026.R1, Richmond Township, Tioga County, Pa.; Consumptive Use of Up to 4.0000 mgd; Approval Date: October 20, 2015.

52. SWEPI LP, Pad ID: Lingle 1102, ABR-201009049.R1, Deerfield Township, Tioga County, Pa.; Consumptive Use of Up to 4.0000 mgd; Approval Date: October 20, 2015.

53. Talisman Energy USA Inc., Pad ID: 02 201 DCNR 594, ABR-201008037.R1, Liberty Township, Tioga County, Pa.; Consumptive Use of Up to 6.0000 mgd; Approval Date: October 20, 2015.

54. Talisman Energy USA Inc., Pad ID: 03 073 Ritz, ABR-201009019.R1, Columbia Township, Bradford County, Pa.; Consumptive Use of Up to 6.0000 mgd; Approval Date: October 20, 2015.

55. Chief Oil & Gas, LLC, Pad ID: Hart North Drilling Pad, ABR-201510006, Elkland Township, Sullivan County, Pa.; Consumptive Use of Up to 2.5000 mgd; Approval Date: October 27, 2015.

56. Chief Oil & Gas, LLC, Pad ID: Bahl Drilling Pad, ABR-201510007, Forks Township, Sullivan County, Pa.; Consumptive Use of Up to 2.5000 mgd; Approval Date: October 27, 2015.

57. Chesapeake Appalachia, LLC, Pad ID: Keir, ABR-201012002.R1, Sheshequin Township, Bradford County, Pa.; Consumptive Use of Up to 7.5000 mgd; Approval Date: October 27, 2015.

58. Chesapeake Appalachia, LLC, Pad ID: Burkmont Farms, ABR-201012007.R1, Wilmot Township, Bradford County, Pa.; Consumptive Use of Up to 7.5000 mgd; Approval Date: October 27, 2015.

59. Chesapeake Appalachia, LLC, Pad ID: Norconk, ABR-201012023.R1, Wilmot Township, Bradford County, Pa.; Consumptive Use of Up to 7.5000 mgd; Approval Date: October 27, 2015.

60. Chesapeake Appalachia, LLC, Pad ID: DGSM, ABR-201012038.R1, Smithfield Township, Bradford County, Pa.; Consumptive Use of Up to 7.5000 mgd; Approval Date: October 27, 2015.

61. Chesapeake Appalachia, LLC, Pad ID: Hartz, ABR-201012039.R1, Ulster Township, Bradford County, Pa.; Consumptive Use of Up to 7.5000 mgd; Approval Date: October 27, 2015.

62. SWEPI LP, Pad ID: Erickson 448, ABR-201009050.R1, Delmar Township, Tioga County, Pa.; Consumptive Use of Up to 4.0000 mgd; Approval Date: October 27, 2015.

63. Talisman Energy USA Inc., Pad ID: 05 092 Upham, ABR-201009078.R1, Pike Township, Bradford County, Pa.; Consumptive Use of Up to 6.0000 mgd; Approval Date: October 27, 2015.

64. Talisman Energy USA Inc., Pad ID: 05 074 Zimmerli, ABR-201009079.R1, Orwell Township, Bradford County, Pa.; Consumptive Use of Up to 6.0000 mgd; Approval Date: October 27, 2015.

65. Tenaska Resources, LLC, Pad ID: Traub Pad A, ABR-201111008.R1, Abbott Township, Potter County, Pa.; Consumptive Use of Up to 4.9990 mgd; Approval Date: October 27, 2015.

66. Chief Oil & Gas, LLC, Pad ID: Garrison Drilling Pad #1, ABR-201102032.R1, Lemon Township, Wyoming County, Pa.; Consumptive Use of Up to 2.0000 mgd; Approval Date: October 30, 2015.

67. SWN Production Company, LLC, Pad ID: WY-18 WEST PAD, ABR-201510008, Eaton Township, Wyoming County, Pa.; Consumptive Use of Up to 4.9990 mgd; Approval Date: October 30, 2015.

Authority: Pub. L. 91-575, 84 Stat. 1509 et seq., 18 CFR parts 806, 807, and 808.

Dated: November 17, 2015.
Stephanie L. Richardson,
Secretary to the Commission.

[FR Doc. 2015-29672 Filed 11-19-15; 8:45 am]

BILLING CODE 7040-01-P